DEPARTMENT OF THE INTERIOR

Bureau of Land Management

[UT-080-05-1310-DB]

Notice of Availability of the Final Environmental Impact Statement and Record of Decision for the Castle Peak and Eight Mile Flat Oil and Gas Expansion Project, Newfield Rocky Mountains, Inc.

AGENCY: Bureau of Land Management.

ACTION: Notice of Availability of Final Environmental Impact Statement and Record of Decision for the Castle Peak and Eight Mile Flat Oil and Gas Expansion Project, Newfield Rocky Mountains, Inc., Uintah and Duchesne Counties, Utah, and Notice of 30-day appeal period for the Record of Decision.

SUMMARY: Under the National Environmental Policy Act (NEPA), the Federal Land Policy and Management Act of 1976 (FLPMA) and associated regulations, the Bureau of Land Management (BLM) announces the availability of a Final Environmental Impact Statement (FEIS) and Record of Decision (ROD) for the Castle Peak and Eight Mile Flat oil and gas expansion project proposed by Newfield Rocky Mountains, Inc., formerly Inland Resources, Inc. This FEIS and ROD are being announced concurrently per 40 CFR part 1506 (b) (2).

DATES: Vernal Field Manager William Stringer signed the ROD on August 24, 2005. The Decision will become final within 30 days after the Environmental Protection Agency publishes the filing notice for this FEIS and ROD in the Federal Register, pending any appeals to the Interior Board of Land Appeals as per 43 CFR 4.21.

ADDRESSES: A copy of the FEIS and ROD has been sent to the affected Federal, State, and local government agencies, Native American Tribes and to interested parties. Copies of the FEIS and ROD are available for public inspection at the following BLM office locations: Bureau of Land Management, Utah State Office Public Room, 440 West 200 South, Suite 500, Salt Lake City, Utah 84101-1345 and the Bureau of Land Management, Vernal Field Office, 170 South 500 East, Vernal, UT 84078.

FOR FURTHER INFORMATION CONTACT: Jean Nitschke-Sinclear, Project Manager, BLM Vernal Field Office, 170 South 500 East, Vernal, UT 84078. Ms. Nitschke-Sinclear may also be reached at 435-781-4400.

SUPPLEMENTARY INFORMATION: On May 8, 2002 the BLM published a Notice of Intent (NOI) in the Federal Register announcing the preparation of an Environmental Impact Statement (EIS) in response to a proposal submitted by Inland Resources, Inc. Inland Resources proposed to expand its existing waterflood oil recovery in the project area, located about 25 miles southwest of Vernal, Utah. The expansion would involve about 64,000 acres in Uintah and Duchesne counties. As proposed, drilling would involve about 973 additional wells to fully develop the resource base. The proposed wells would be drilled on 40-acre spacing, drilling about 50% of the wells as producing wells and 50% as water injection wells.

The Draft EIS (DEIS) was made available to the public for a 45-day review period during October-November 2004. The BLM held a public meeting to receive oral comments on November 4, 2004. A total of 94 written comments on the DEIS were received during the comment period.

Based on the information contained in the DEIS, public comments received on the DEIS, consultation with 13 Native American Tribes having historical and/or ethnological ties to the Uinta Basin, and information received from the U.S. Fish and Wildlife Services, the BLM has approved the agency-preferred alternative (Alternative A). This alternative allows oil and gas wells and associated ancillary facilities located on BLM-administered public lands located outside the existing Pariette Wetlands Area of Critical Environmental Concern (ACEC). The BLM has decided to defer approval of new wells and ancillary facilities located on BLM-administered public lands within the Pariette Wetlands ACEC until a comprehensive population inventory has been completed for the federally listed Uinta Basin hookless cactus (Sclerocactus glaucus) within suitable habitat on BLM lands within the Pariette Wash watershed. Future authorization of all or a portion of the wells on BLM-administered public lands within the ACEC will depend upon the location and size of cactus populations within the ACEC, and the results of site-specific NEPA analysis on oil and gas development proposals within the ACEC boundary, including consultation with the Service.

The decision to approve the agency-preferred alternative, with modifications, recognizes that oil and gas development has been ongoing within the area for over 50 years, and that nearly the entire project area has been leased. These leases represent valid existing rights. The decision also acknowledges that there are important natural and cultural resources within the area, including listed threatened species, and existing BLM Areas of Critical Environmental Concern (Pariette Wetlands, Lower Green River). This decision balances the rights to develop oil and gas, while protecting surface resources over the long term. It also acknowledges an unresolved conflict between oil and gas development, and protection and recovery of the Uinta Basin hookless cactus, a listed threatened species. By acquiring additional information about the location and condition of populations of this species within the ACEC and adjacent areas, the BLM will make better-informed decisions about where and how to place future oil and gas facilities.

The decision provides the BLM approval to permit the following project components on BLM-administered lands within the Castle Peak and Eight Mile Flat Expansion Area: 778 oil and gas well locations; 261 miles of new and existing access roads, with adjacent parallel utility corridors for buried water and buried and/or surface natural gas gathering pipelines; 2 water filtration/injection plants and an associated 6.9 mile 12 kV electrical powerline; 3 to 5 new water wells installed in the Green River alluvium, connected to a centralized pump station; and 7.5 miles of buried water pipeline connecting the Green River water supply pump station with the water filtration/injection plants.

The BLM consulted with the U.S. Fish and Wildlife Service about potential effects on listed threatened and endangered species from project construction and operation. The Service reviewed the DEIS and provided comments. In March 2005, the BLM submitted a Biological Assessment to the Service, concluding that the project may adversely affect the Uintah Basin hookless cactus; may adversely affect the Colorado pikeminnow, humpback chub, bonytail and razorback sucker; and may adversely modify designated Critical Habitat for the four fish species through depletions from the Upper Colorado River System. In its Biological Opinion, the Service concurred with the BLM's conclusions for these species.

The Biological Opinion contains recommended conservation measures to protect and recover the Uinta Basin hookless cactus and the four Colorado River native fish. The BLM has adopted nearly all these conservation measures (with minor modifications), and has included these measures in the conditions of approval. One exception is the Service's recommendation that no further surface occupancy by oil and gas facilities be approved in the Pariette ACEC. Due to valid existing lease rights, the BLM cannot stipulate a blanket “no surface occupancy” requirement for oil and gas development within this ACEC. However, BLM has decided to defer authorization of new wells and access roads within the ACEC boundaries until the needed inventories are completed.

The FEIS is a complete document. It includes the Biological Opinion received from the Service, plus a presentation of substantive public comments received on the DEIS. The FEIS also includes BLM's responses to these comments. The FEIS includes changes to the text in response to public comments on the DEIS. These changes were made to clarify, correct and/or expand information to aid the public's understanding of the proposed project, reasonable alternatives and their effects on the environment.

Dated: August 31, 2005.
William Stringer,
Field Manager, Vernal Field Office.

[FR Doc. 05-21043 Filed 10-20-05; 8:45 am]

BILLING CODE 4310-22-P